DEPARTMENT OF COMMERCE

International Trade Administration

North American Free-Trade Agreement (NAFTA), Article 1904 Binational Panel Reviews

AGENCY: NAFTA Secretariat, United States Section, International Trade Administration, Department of Commerce.

ACTION: Notice of decision of panel.

SUMMARY: On March 10, 2011, the binational panel issued its decision in the review of the determination on remand made by the International Trade Commission, respecting Light-Walled Rectangular Pipe and Tube from Mexico: Final Determination of Material Injury to a U.S. Industry (NAFTA Secretariat File Number USA-MEX-2008-1904-04). The binational panel affirmed the International Trade Commission's determination on remand. Copies of the panel's order are available from the U.S. Section of the NAFTA Secretariat.

FOR FURTHER INFORMATION CONTACT: Valerie Dees, United States Secretary, NAFTA Secretariat, Suite 2061,14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The panel affirmed the International Trade Commission's determination on remand respecting Light-Walled Rectangular Pipe and Tube from Mexico: Final Determination of Material Injury to a U.S. Industry.

Dated: March 14, 2011.
Valarie Dees,
U.S. Secretary, NAFTA Secretariat.

[FR Doc. 2011-6311 Filed 3-17-11; 8:45 am]

BILLING CODE 3510-GT-P